DEPARTMENT OF TRANSPORTATION

Research and Innovative Technology Administration

[Docket Number: RITA-2007-27185]

Notice of Request for Approval To Collect Survey Data To Evaluate Close Call Reporting System for Railroad Operations

AGENCY: Volpe National Transportation Systems Center (Volpe Center), Research and Innovative Technology Administration, DOT.

ACTION: Notice and request for comments.

OMB Control Number: New.

SUMMARY: This notice announces that the Volpe Center intends to request the Office of Management and Budget (OMB) to approve a data collection effort to help in the evaluation of a five-year demonstration project focused on improving rail safety by analyzing information on close calls and other unsafe occurrences in the rail industry. The study is conducted by the Office of Human Factors in the Federal Railroad Administration (FRA) and is designed to identify safety issues and propose corrective actions based on voluntary reports of close calls submitted to the Bureau of Transportation Statistics (BTS). Because of the innovative nature of this program, the FRA is implementing an evaluation to determine whether the program is succeeding, how it can be improved, and what is needed to expand the program throughout the railroad industry. This collection is necessary to obtain the data needed to carry out the evaluation. This notice is required by the Paperwork Reduction Act.

Data Confidentiality Provisions: The Volpe Center will not release to FRA or any other public or private entity any information that might reveal the identity of individuals or organizations mentioned in the evaluation survey questionnaires. The respondents will not be asked to identify themselves.

DATES: Comments must be received by April 16, 2007.

ADDRESSES: You can mail or hand-deliver comments to the U.S. Department of Transportation (DOT), Dockets Management System (DMS). You may submit your comments by mail or in person to the Docket Clerk, Docket No. RITA-2007-27185, U.S. Department of Transportation, 400 Seventh Street, SW., Room PL-401, Washington, DC 20590-0001. Comments should identify the docket number; paper comments should be submitted in duplicate. The DMS is open for examination and copying, at the above address, from 9 a.m. to 5 p.m., Monday through Friday, except Federal holidays. If you wish to receive confirmation of receipt of your written comments, please include a self-addressed, stamped postcard with the following statement: “Comments on Docket RITA-2007-27185.” The Docket Clerk will date stamp the postcard prior to returning it to you via the U.S. mail. Please note that due to delays in the delivery of U.S. mail to Federal offices in Washington, DC, we recommend that persons consider an alternative method (the Internet, fax, or professional delivery service) to submit comments to the docket and ensure their timely receipt at U.S. DOT. You may fax your comments to the DMS at (202) 493-2251.

If you wish to file comments using the Internet, you may use the DOT DMS Web site at http://dms.dot.gov. Please follow the online instructions for submitting an electronic comment. You can also review comments on-line at the DMS Web site at http://dms.dot.gov.

Please note that anyone is able to electronically search all comments received into our docket management system by the name of the individual submitting the comment (or signing the comment if submitted on behalf of an association, business, labor union, etc.). You may review DOT's complete Privacy Act Statement in the Federal Register published on April 11, 2000 (Volume 65, Number 70; pages 19477-78) or you may review the Privacy Act Statement at http://dms.dot.gov.

FOR FURTHER INFORMATION CONTACT: Joyce Ranney, DTS 4G, Room 1-655A, Volpe Center; Kendall Square, 55 Broadway; Cambridge, MA 617-494-2095; FAX NO. (617) 494-3622; e-mail: ranney@volpe.dot.gov.

SUPPLEMENTARY INFORMATION:

I. The Data Collection

The Paperwork Reduction Act of 1995 (44 U.S.C. Chapter 35; as amended) and 5 CFR part 1320 require each Federal agency to obtain OMB approval to initiate an information collection activity. The Volpe Center is seeking OMB approval for the following Volpe Center information collection activity:

Title: Collect Close Call System Evaluation Survey Questionnaires.

OMB Control Number: New.

Type of Review: Approval of data collection.

Respondents: Employees of selected (pilot) railroad sites.

Number of Respondents: 1200 (per annum).

Estimated Time per Response: 0.33 hours.

Frequency: Once at baseline. (Baseline includes three pilot sites with a total of 1200 respondents.)

Total Annual Burden: 400 hours.

Background

In the U.S. railroad industry, injury rates have been declining over the last 25 years. Indeed, the industry incident rate fell from a high of 12.1 incidents per 100 workers per year in 1978 to 3.66 in 1996. As the number of incidents has decreased, the mix of causes has also changed toward a higher proportion of incidents that can be attributed to human and organizational factors. This combination of trends—decrease in overall rates but increasing proportion of human factors-related incidents—has forced safety managers to shift tactics in order to achieve further reductions in the overall injury rate.

In recognition of the need for new approaches to improving safety, the FRA has instituted the Confidential Close Call Reporting System (C³RS). The operating assumption behind C³RS is that by assuring confidentiality, employees will report events, which, if dealt with, will decrease the likelihood of accidents. C³RS therefore has both a confidential reporting component, and a problem analysis/solution component. C³RS is expected to affect safety in two ways. First, it will lead to problem solving concerning specific safety conditions. Second, it will engender an organizational culture and climate that supports greater awareness of safety and a greater cooperative willingness to improve safety.

If C³RS works as intended, it could have an important impact on improving safety and safety culture in the railroad industry. While C³RS has been developed and implemented with the participation of the FRA, railroad labor, and railroad management, there are legitimate questions about whether it is being implemented in the most powerful way, and whether it will have its intended effect. Further, even if C³RS is successful, it will be necessary to know if it is successful enough to implement on a wide scale. To address these important questions, the FRA is implementing a formative evaluation to guide program development, a summative evaluation to assess impact, and a sustainability evaluation to determine how C³RS can continue after the test period is over. The evaluation is needed to provide the FRA with guidance as to how it can improve the program, and how it might be scaled up throughout the railroad industry.

Program evaluation is an inherently data driven activity. Its basic tenet is that as change is implemented, data can be collected to track the course and consequences of the change. Because of the setting in which C³RS is being implemented, that data must come from the railroad employees (labor and management) who may be affected. Critical data include beliefs about safety and issues related to safety, and opinions/observations about the operation of C³RS.

In order to collect the necessary data in a manner that protects confidentiality, the data collection process will be managed by the Volpe Center. The Volpe Center will not release to FRA or any other public or private entity any information that might reveal the identity of individuals or organizations mentioned in the evaluation survey questionnaires. Also the respondents will not be asked to identify themselves.

II. Request for Comments

The Volpe Center requests comments on any aspects of these information collections, including: (1) The accuracy of the estimated burden; (2) ways to enhance the quality, usefulness, and clarity of the collected information; and (3) ways to minimize the collection burden without reducing the quality of the information collected, including additional use of automated collection techniques or other forms of information technology.

Issued in Cambridge, Massachusetts, on February 6, 2007.
Nelson H. Keeler,
Director, Office of Aviation Programs.

[FR Doc. E7-2448 Filed 2-12-07; 8:45 am]

BILLING CODE 4910-HY-P